DEPARTMENT OF VETERANS AFFAIRS

38 CFR Parts 3, 4, and 60

RIN 2900-AO64

VA Compensation Service and Pension and Fiduciary Service Nomenclature Changes

AGENCY: Department of Veterans Affairs.

ACTION: Final rule.

SUMMARY: This document amends the Department of Veterans Affairs (VA) regulations by making nonsubstantive changes to reflect new titles of certain VA offices.

DATES: These amendments are effective January 13, 2014.

FOR FURTHER INFORMATION CONTACT: Marie Gregory, Pension and Fiduciary Service (21P1), Veterans Benefits Administration, Department of Veterans Affairs, 810 Vermont Avenue NW., Washington, DC 20420, (202) 632-8863. (This is not a toll-free number.)

SUPPLEMENTARY INFORMATION: In April 2011, VA divided its Compensation and Pension Service (an office within VA's Veterans Benefits Administration) into two separate Services, the “Compensation Service” and the “Pension and Fiduciary Service.” This final rule amends VA regulations to reflect this change. No substantive changes are intended by these amendments.

Administrative Procedure Act

This final rule concerns only agency organization, procedure, or practice and therefore is not subject to the notice and comment provisions of 5 U.S.C. 553(b). This final rule consists of only nonsubstantive changes that will make the regulations more accurate and less confusing to readers. Pursuant to 5 U.S.C. 553(d)(3), the Secretary finds that there is good cause to make these amendments effective on the date of their publication in the Federal Register.

Unfunded Mandates

The Unfunded Mandates Reform Act requires, at 2 U.S.C. 1532, that agencies prepare an assessment of anticipated costs and benefits before issuing any rule that may result in an expenditure by State, local, or tribal governments, in the aggregate, or by the private sector of $100 million or more in any given year. This final rule will have no such effect on State, local, or tribal governments, or on the private sector.

Paperwork Reduction Act

This final rule contains no provisions constituting a collection of information under the Paperwork Reduction Act (44 U.S.C. 3501-3521).

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” which requires review by the Office of Management and Budget (OMB), as “any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this Executive Order.”

VA has examined the economic, interagency, budgetary, legal, and policy implications of this regulatory action, and it has been determined not to be a significant regulatory action under Executive Order 12866. VA's impact analysis can be found as a supporting document at http://www.regulations.gov, usually within 48 hours after the rulemaking document is published. Additionally, a copy of the rulemaking and its impact analysis are available on VA's Web site at http://www1.va.gov/orpm/, by following the link for “VA Regulations Published.”

Regulatory Flexibility Act

The Secretary hereby certifies that this final rule will not have a significant economic impact on a substantial number of small entities as they are defined in the Regulatory Flexibility Act, 5 U.S.C. 601-612. This final rule consists of only nonsubstantive changes. Therefore, pursuant to 5 U.S.C. 605(b), this amendment is exempt from the final regulatory flexibility analysis requirements of section 604.

Catalog of Federal Domestic Assistance

The Catalog of Federal Domestic Assistance program numbers and titles are 64.100, Automobiles and Adaptive Equipment for Certain Disabled Veterans and Members of the Armed Forces; 64.101, Burial Expenses Allowance for Veterans; 64.104, Pension for Non-Service-Connected Disability for Veterans; 64.105, Pension to Veterans Surviving Spouses, and Children; 64.106, Specially Adapted Housing for Disabled Veterans; 64.109, Veterans Compensation for Service-Connected Disability; and 64.110, Veterans Dependency and Indemnity Compensation for Service-Connected Death.

Signing Authority

The Secretary of Veterans Affairs, or designee, approved this document and authorized the undersigned to sign and submit the document to the Office of the Federal Register for publication electronically as an official document of the Department of Veterans Affairs. Jose D. Riojas, Chief of Staff, Department of Veterans Affairs, approved this document on January 2, 2014, for publication.

List of Subjects

38 CFR Parts 3 and 4

Administrative practice and procedure, Claims, Disability benefits, Health care, Pensions, Radioactive materials, Veterans, Vietnam.

38 CFR Part 60

Health care, Housing, Reporting and recordkeeping requirements, Travel, Veterans.

Robert C. McFetridge,
Director, Office of Regulation Policy and Management, Office of the General Counsel, Department of Veterans Affairs.

For the reasons stated in the preamble, VA amends 38 CFR parts 3, 4, and 60 as follows:

PART 3—ADJUDICATION

Subpart A—Pension, Compensation, and Dependency and Indemnity Compensation

1. The authority citation for part 3, subpart A continues to read as follows:

Authority: 38 U.S.C. 501(a), unless otherwise noted.

§ 3.1 [Amended]

2. Amend § 3.1(y)(3) by removing “Compensation and Pension Service” and adding, in its place, “Compensation Service”.

§ 3.100 [Amended]

3. Amend § 3.100:

a. In paragraph (a) by removing “Compensation and Pension Service” and adding, in its place, “the Compensation Service or the Pension and Fiduciary Service”.

b. In paragraph (b) by removing “Compensation and Pension Service” and adding, in its place, “Compensation Service, and the Director, Pension and Fiduciary Service” and removing “that service designated by him” and adding, in its place, “each service designated by its Director”.

§ 3.321 [Amended]

4. Amend § 3.321(b) by removing “Compensation and Pension Service” and adding, in its place, “Compensation Service”.

§ 3.328 [Amended]

5. Amend § 3.328 by:

a. Removing “Compensation and Pension Service” each place it appears and adding, in its place, “Compensation Service or the Pension and Fiduciary Service”.

b. In paragraph (b), removing “Veterans Service Center Manager” each place it appears and adding, in its place, “Veterans Service Center Manager or Pension Management Center Manager”.

§ 3.814 [Amended]

6. Amend § 3.814(d)(2) by removing “Compensation and Pension Service” and adding, in its place, “Compensation Service”.

§ 3.815 [Amended]

7. Amend § 3.815(h) by removing “Compensation and Pension Service” and adding, in its place, “Compensation Service”.

§ 3.905 [Amended]

8. Amend § 3.905(a) by removing “Director, Compensation and Pension Service” and adding, in its place, “Director, Compensation Service, and the Director, Pension and Fiduciary Service”.

PART 4—SCHEDULE FOR RATING DISABILITIES

Subpart A—General Policy in Rating

9. The authority citation for part 4 continues to read as follows:

Authority: 38 U.S.C. 1155, unless otherwise noted.

§ 4.16 [Amended]

10. Amend § 4.16(b) by removing “Compensation and Pension Service” and adding, in its place, “Compensation Service”.

§ 4.24 [Amended]

11. Amend § 4.24 by removing “Compensation and Pension Service” and adding, in its place, “Compensation Service”.

§ 4.29 [Amended]

12. Amend § 4.29(g) by removing “Compensation and Pension Service” and adding, in its place, “Compensation Service”.

Subpart B—Disability Ratings

§ 4.104 [Amended]

13. Amend § 4.104, at the diagnostic code 7015 Note, by removing “Compensation and Pension Service” and adding, in its place, “Compensation Service”.

§ 4.117 [Amended]

14. Amend § 4.117, at the diagnostic code 7714 Note, by removing “Compensation and Pension Service” and adding, in its place, “Compensation Service”.

§ 4.124a [Amended]

15. Amend § 4.124a, under the heading Epilepsy and Unemployability, paragraph (4) by removing “Compensation and Pension Service” and adding, in its place, “Compensation Service or the Director, Pension and Fiduciary Service”.

PART 60—FISHER HOUSES AND OTHER TEMPORARY LODGING

16. The authority citation for part 60 continues to read as follows:

Authority: 38 U.S.C. 501, 1708.

§ 60.2 [Amended]

17. Amend § 60.2 by removing “VA's Compensation and Pension Service” and adding, in its place, “the Compensation Service or the Pension and Fiduciary Service”.

[FR Doc. 2014-00390 Filed 1-10-14; 8:45 am]

BILLING CODE 8320-01-P